DEPARTMENT OF EDUCATION

[CFDA Number 84.295A]

Ready-to-Learn Television Program

AGENCY: Office of Innovation and Improvement, Department of Education.

ACTION: Notice inviting applications for new awards for fiscal year (FY) 2010; correction.

SUMMARY: On March 22, 2010, we published in the Federal Register (75 FR 13515) a notice inviting applications for new awards for FY 2010 for the Ready-to-Learn Television Program. There is an error in one of the dates in that notice.

SUPPLEMENTARY INFORMATION: This notice corrects the meeting date for prospective applicants on two pages of the notice as follows:

Correction

(1) On page 13515, in the first column, after the words Date of Meeting for Prospective Applicants:, replace the date “April 8, 2010” with the date “April 15, 2010.”

(2) On page 13518, in the second column, after the words Date of Meeting for Prospective Applicants:, replace the date “April 8, 2010” with the date “April 15, 2010.”

FOR FURTHER INFORMATION CONTACT: The Ready-to-Learn Television Program, U.S. Department of Education, 400 Maryland Avenue, SW., Room 4W414, Washington, DC 20202 or by e-mail: readytolearn@ed.gov.

If you use a telecommunications device for the deaf, call the Federal Relay Service, toll free, at 1-800-877-8339.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: March 30, 2010.
James H. Shelton, III,
Assistant Deputy Secretary for Innovation and Improvement.

[FR Doc. 2010-7531 Filed 4-1-10; 8:45 am]

BILLING CODE 4000-01-P